DEPARTMENT OF LABOR

Employment and Training Administration

[TA-W-51,772]

Computer Simulations, Pittsburgh, PA; Notice of Termination of Investigation

Pursuant to section 221 of the Trade Act of 1974, as amended, an investigation was initiated on May 16, 2003 in response to a petition filed by a company official on behalf of workers at Computer Simulations, Pittsburgh, Pennsylvania.

The petitioner(s) has (have) requested that the petition be withdrawn. Consequently, the investigation has been terminated.

Signed at Washington, DC this 10th day of June, 2003.
Elliott S. Kushner,
Certifying Officer, Division of Trade Adjustment Assistance.

[FR Doc. 03-15486 Filed 6-18-03; 8:45 am]

BILLING CODE 4510-30-P